DEPARTMENT OF COMMERCE

National Oceanic and Atmospheric Administration

[I.D. 072904A]

Marine Mammals; File No. 369-1757

AGENCY: National Marine Fisheries Service (NMFS), National Oceanic and Atmospheric Administration (NOAA), Commerce.

ACTION: Receipt of application.

SUMMARY: Notice is hereby given that Bruce R. Mate, Ph.D., Hatfield Marine Science Center, Oregon State University, Newport, OR 97365, has applied in due form for a permit to take large whales, and other non-endangered species for purposes of scientific research.

DATES: Written, telefaxed, or e-mail comments must be received on or before September 2, 2004.

ADDRESSES: The application and related documents are available for review upon written request or by appointment: (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 369-1757.

FOR FURTHER INFORMATION CONTACT: Ruth Johnson or Carrie Hubard, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.) and the regulations governing the taking, importing, and exporting of endangered and threatened species (50 CFR 222-226).

The Applicant requests a permit to conduct the following activities:

(1) Tag 200 each of humpback whales (Megaptera novaeangliae), blue whales (Balaenoptera musculus), fin whales (Balaenoptera physalus), gray whales (Eschrichtius robustus), North Atlantic right whales (Eubalaena glacialis), southern right whales (Eubalaena australis), bowhead whales (Balaena mysticetus), sperm whales (Physeter catodon) and 60 North Pacific right whales (Eubalaena japonica) in U.S. and foreign waters of the North Atlantic (including Gulf of Mexico), North Pacific (including Hawaii), Arctic and Indian Oceans, Beaufort, Bering and Chukchi Seas, and international waters of the Mediteranean Sea over a 5-year period. No more than 50 of each whale species will be tagged in a single year. Up to 200 of each species would be incidentally harassed annually. Satellite-monitored radio tags, GPS-linked satellite tags and acoustic tags will be deployed to monitor the movements and diving behavior of these species. The objectives of the proposed research are to: (a) identify migration routes; (b) identify specific feeding and breeding grounds for each species, if unknown; (c) characterize local movements and dive habits in both feeding and breeding grounds, and during migration; (d) examine the relationships between movements/dive habits and prey distribution, time of day, geographic location, or physical and biological oceanographic conditions; (e) provide surfacing-rate information that can be useful in the development of more accurate abundance estimations; (f) characterize whale vocalizations; and (g) characterize sound pressure levels to which whales are exposed. Tagged whales will be approached for photo-identification, behavioral observation and assessment of possible tag effects;

(2) Tag 100 killer whales (Orcinus orca) over a five-year period not to exceed 20 in a single year. This would occur on an opportunistic basis, should killer whales be encountered during tagging activities with other species. The objectives of this research are to document killer whale movements and seasonal distribution patterns;

(3) Conduct non-invasive Level B harassment (photo-identification and behavioral observation) on the other non-target non-endangered/threatened marine mammal species encountered during tagging activities, in order to contribute to the knowledge of species (or situations) for which little information has been documented; and

(4) Import and export marine mammal biopsy samples and baleen from beach-cast (dead) whales. Baleen will be used for isotopic ratio analysis which may help validate movements between ocean areas with distinctive isotopic ratio signatures. Biopsy samples would be analyzed in different laboratories depending upon the species in question or the specific tests being conducted. Samples would imported/exported on a worldwide basis.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Protected Species Coordinator, Pacific Area Office, NMFS, 1601 Kapiolani Blvd., Rm, 1110, Honolulu, HI 96814-4700; phone (808)973-2935; fax (808)973-2941;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

Dated: July 29, 2004.
Patrick Opay,
Acting Chief, Permits, Conservation and Education Division, Office of Protected Resources, National Marine Fisheries Service.

[FR Doc. 04-17668 Filed 8-2-04; 8:45 am]

BILLING CODE 3510-22-S